DEPARTMENT OF TRANSPORTATION

Pipeline and Hazardous Materials Safety Administration

Notice of Applications for Modification of Special Permit

AGENCY: Office of Hazardous Materials Safety, Pipeline and Hazardous Materials Safety Administration (PHMSA), DOT.

ACTION: List of Applications for Modification of Special Permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before May 21, 2014.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHI-1-30, 1200 New Jersey Avenue Southeast, Washington DC or at http://regulations.gov.

This notice of receipt of applications for modification of special permit is published in accordance with Part 107 of the Federal hazardous materials transportation law (49 U.S.C. 5117(b); 49 CFR 1.53 (b)).

Issued in Washington, DC, on April 23, 2014.
Donald Burger,
Chief, General Approvals and Permits.

Modification Special Permits
Application No. | Docket No. | Applicant | Regulation(s) affected | Nature of special permit thereof
6263-M |  | Amtrol, Inc., West Warwick, RI | 49 CFR 173.302(a)(1) | To modify the special permit to provide relief from § 173.306(g).
11650-M |  | Autoliv ASP, Inc., Ogden, UT | 49 CFR 173.301(a)(1), and 173.302a(a) | To modify the special permit to authorize an increase to the maximum service pressure.
11770-M |  | Gas Cylinder Technologies, Inc., Lakeshore Ontario | 49 CFR 173.302a, and 173.304a | To modify the special permit to authorize cargo and passenger aircraft as additional modes of transportation.
12412-M |  | Chemquest, Inc., Lakeville, MN | 49 CFR 177.834(h), 172.203(a), and 172.302(c) | To modify the special permit to allow residue to remain in during transportation.
13127-M |  | American Pacific Corporation, Cedar City UT | 49 CFR 172.101 Column 7, Special Provision IB6 and 172.102(c)(4), Table 1.—IBC CODES, IBC Code IB6 | To modify the special permit to authorize cargo vessel as an additional mode of transportation.
13359-M |  | BASF Corporation, Florham Park, NJ | 49 CFR 173.301(f)(6), and 173.302a | To modify the special permit to authorize a UN certified pressure vessel.
14506-M |  | SLR International Corporation, Bothell, WA | 49 CFR 173.4(a)(1)(i), 173.4a(c) and (d) | To modify the special permit to authorize inner packagings without the removable closure secured in place, and to authorize small deviations in packaging.
14617-M |  | Western International Gas & Cylinders, Inc., Bellville, TX | 49 CFR 172.203(a), 172.301(c), and 180.205(f) | To modify the special permit to add certain DOT 3AL seamless aluminum cylinders manufactured of, aluminum alloy 6351, DOT 313N, and cylinders manufactured in accordance with DOT-SP 9001, 9370, 9421, 9706, 9791, 9909, 10047, 10869 and 11692.
15860-M |  | Apple Inc., Cupertino, CA | 49 CFR 173.185(a) | To modify the special permit to authorize cargo aircraft as an additional mode of transportation.
15866-M |  | Saft America Inc., Jacksonville, FL | 49 CFR 173.185 | To modify the special permit to authorize lithium metal batteries.
15869-M |  | Mercedes-Benz USA, LLC (MBUSA), Montvale, NJ | 49 CFR 172.102, Special provision A54 | To modify the special permit to authorize additional battery types.

[FR Doc. 2014-10071 Filed 5-5-14; 8:45 am]

BILLING CODE 4909-60-M